FEDERAL COMMUNICATIONS COMMISSION

47 CFR Part 73

[DA 06-1886; MB Docket No. 06-65; RM-11320; RM-11335]

Radio Broadcasting Service; Alva, OK; Ashland, Greensburg, and Kinsley, KS; and Medford, and Mustang, OK

AGENCY: Federal Communications Commission.

ACTION: Final rule.

SUMMARY: The Audio Division: grants in part a counterproposal (RM-11335) filed by Chisholm Trail Broadcasting Company (“Chisholm”) only to the extent of allotting Channel 288C3 at Kinsley, Kansas, and denying in all other respects; dismisses a Petition for Rule Making (11320) filed by OKAN Community Radio to allot Channel 288C3 at Ashland, Kansas for lack of continuing interest; and dismisses per Chisholm's request its pending Petition for Rule Making to allot inter alia Channel 259C1 at Greensburg, Kansas. Channel 288C3 can be allotted at Kinsley, Kansas in compliance with the Commission's minimum distance separation requirements at 37-53-20 North Latitude and 99-24-34 West Longitude with a site restriction of 3.8 kilometers (2.4 miles) south of city reference.

DATES: Effective November 6, 2006.

ADDRESSES: Secretary, Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 06-65, adopted September 20, 2006, and released September 22, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Kansas, is amended by adding Kinsley, Channel 288C3.

Federal Communications Commission.
John A. Karousos,
Assistant Chief, Audio Division, Media Bureau.

[FR Doc. E6-17346 Filed 10-17-06; 8:45 am]

BILLING CODE 6712-01-P